DEPARTMENT OF COMMERCE

National Oceanic and Atmospheric Administration

RIN 0648-XD60

Taking of Marine Mammals Incidental to Specified Activities; An On-ice Marine Geophysical and Seismic Programs in the U.S. Beaufort Sea

AGENCY: National Marine Fisheries Service (NMFS), National Oceanic and Atmospheric Administration (NOAA), Commerce.

ACTION: Notice of receipt of three applications and proposed incidental take authorizations; request for comments.

SUMMARY: NMFS has received applications from CGGVeritas (Veritas) and Shell Offshore, Inc. (SOI) for Incidental Harassment Authorizations (IHAs) to take marine mammals, by harassment, incidental to conducting an on-ice marine geophysical and seismic programs in the U.S. Beaufort Sea from February to May, 2008. Pursuant to the Marine Mammal Protection Act (MMPA), NMFS is requesting comments on its proposal to issue two authorizations to Veritas and one authorization to SOI to incidentally take, by harassment, small numbers of three species of pinnipeds.

DATES: Comments and information must be received no later than December 31, 2007.

ADDRESSES: Comments on the applications should be addressed to P. Michael Payne, Chief, Permits, Conservation and Education Division, Office of Protected Resources, National Marine Fisheries Service, 1315 East-West Highway, Silver Spring, MD 20910-3225, or by telephoning one of the contacts listed here. The mailbox address for providing email comments is PR1.0648-XD60@noaa.gov. Comments sent via e-mail, including all attachments, must not exceed a 10-megabyte file size. A copy of the applications and other supporting material related to the proposed actions may be obtained by writing to this address or by telephoning the first contact person listed here and is also available at: http://www.nmfs.noaa.gov/pr/permits/incidental.htm

FOR FURTHER INFORMATION CONTACT: Shane Guan, Office of Protected Resources, NMFS, (301) 713-2289, ext 137 or Brad Smith, Alaska Region, NMFS, (907) 271-5006.

SUPPLEMENTARY INFORMATION:

Background

Sections 101(a)(5)(A) and (D) of the MMPA (16 U.S.C. 1361 et seq.) direct the Secretary of Commerce to allow, upon request, the incidental, but not intentional, taking of marine mammals by U.S. citizens who engage in a specified activity (other than commercial fishing) within a specified geographical region if certain findings are made and either regulations are issued or, if the taking is limited to harassment, a notice of a proposed authorization is provided to the public for review.

Permission shall be granted if NMFS finds that the taking will have a negligible impact on the species or stock(s), will not have an unmitigable adverse impact on the availability of the species or stock(s) for subsistence uses, and if the permissible methods of taking and requirements pertaining to the mitigation, monitoring, and reporting of such takings are set forth. NMFS has defined “negligible impact” in 50 CFR 216.103 as ”...an impact resulting from the specified activity that cannot be reasonably expected to, and is not reasonably likely to, adversely affect the species or stock through effects on annual rates of recruitment or survival.”

Section 101(a)(5)(D) of the MMPA established an expedited process by which citizens of the United States can apply for an authorization to incidentally take small numbers of marine mammals by harassment. Except for certain categories of activities not pertinent here, the MMPA defines “harassment” as:

any act of pursuit, torment, or annoyance which (i) has the potential to injure a marine mammal or marine mammal stock in the wild [Level A harassment]; or (ii) has the potential to disturb a marine mammal or marine mammal stock in the wild by causing disruption of behavioral patterns, including, but not limited to, migration, breathing, nursing, breeding, feeding, or sheltering [Level B harassment].

Section 101(a)(5)(D) establishes a 45-day time limit for NMFS review of an application followed by a 30-day public notice and comment period on any proposed authorizations for the incidental harassment of marine mammals. Within 45 days of the close of the comment period, NMFS must either issue or deny issuance of the authorization.

Summary of Request

On August 8 and 14, 2007, NMFS received two applications from Veritas for the taking, by harassment, of three species of marine mammals incidental to conducting on-ice seismic surveys in Smith Bay and Pt. Thomson areas of the U.S. Beaufort Sea. On September 10, 2007, NMFS received an application from SOI for the taking, by harassment, of three species of marine mammals incidental to conducting an on-ice marine geophysical survey program offshore west of Simpson Lagoon, U.S. Beaufort Sea. Veritas plans to acquire 3D seismic data within the months of February - May, 2008. The energy source for the proposed activity will be vibroseis. The proposed SOI on-ice seismic survey will also use vibroseis as energy sources, and is scheduled to begin in early March 2008 with camp mobilization expected to begin approximately March 11 from Oliktok Point. Data acquisition will begin in mid-March and continue for approximately 60 days until mid-May, followed by camp demobilization to Oliktok Point.

Description of the Activity

Veritas

The proposed Veritas projects would consist of laying recording cables with geophones on the frozen sea ice; using vibroseis techniques as the source of energy to acquire the seismic data. Seismic operations will be conducted utilizing 8 - 10 wheeled/tracked vibrators supported by Tucker SnoCats and the Challenger 95 recording cable transport vehicles. A Challenger 95 or Tucker SnoCat vehicle will travel along a pre-surveyed route and lay receiver cable lines that extend between 3 - 10 miles (4.8 - 16.1 km) long. Receiver (i.e., geophone) lines will be spaced 1,320 ft (402 m) apart; a group of 3 - 6 geophones would be located every 220 ft (67 m) along each of these lines. Ten to fifteen receiver lines will be placed on the ground at any one time all interconnected to a recording device known as a “recorder.” Vibroseis vehicles will then move along a pre-determined route most often nearly perpendicular to the recording lines. Positioning of the cables, vibroseis and recording vehicles all use Tiger Nav technology, a specialized navigation and positioning software. The Tiger Nav system integrates with GPS and Inertial Technology with Real Time Positioning, Stake-less Source, Receiver Surveying and Vehicle Tracking. The Vibrators (usually 3 - 4 that travel together) move to a pre-determined GPS point location and begin vibrating in synchrony via a radio signal. The Vibrators will vibrate usually 2 - 4 times at each location, move up to the next location about 330 ft (101 m), and continue the vibrating technique until the end of the line. This activity will occur two lines at a time. Veritas utilizes satellite imagery, existing bathymetry, drill grids and ground penetrating radar (GPR) to interpret ice integrity for proper planning. To support vibroseis and recording vehicle units, an ice thickness of at least 4 feet is required.

The first specified geographic region of Veritas activities is: (1) a 569-km² (220-mi²) area extending across Smith Bay from point of entry from the west at approximately 71°06′00.05″ N, 154°30′21.00″ W to the east at point of exit to land at approximately 70°54′37.03″N, 153°46′43.43″ W. Water depths in most (> 80 percent) of the area are less than 10 ft (3 m) based on bathymetry charts. The second specified geographic area is a 276-km² (107-mi²) area extending across the Beaufort Sea from point of entry from the southwest corner at approximately 70°10′ 41.84″ N, 146°43′ 03.36″ W to the northwest corner at approximately 70°14′ 52.92″N, 146°42′ 15.21″ W to the southeast corner at approximately 70°08′ 43.98″ N, 145°58′10.70″W to the northeast corner off of Flaxman Island at approximately 70°11′28.82″N, 145°54′11.46″ W. Water depths in most (> 75 percent) of the area are less than 10 ft (3 m) based on bathymetry charts.

SOI

The proposed SOI on-ice marine geophysical (seismic) program would be conducted over 10 to 20 U.S. Minerals Management Service (MMS) Outer Continental Shelf (OCS) lease blocks located offshore from Oliktok Point in the Alaskan Beaufort Sea. The proposed program location is in the vicinity of Thetis and Spy Islands, north-northwest of Oliktok Point. The majority of the OCS blocks covered in the proposed program are surrounding the 33 ft (10 m) water depth contour. Assuming seismic acquisition occurred over up to 20 OCS blocks, the proposed on-ice seismic project would cover a maximum estimated 3,000 line-miles (4,828 km) of surveying within a 265 mi² (686 km²) area. Two types of standard industry vibrator sources will be used on-ice, and no under-ice acoustic sources will be deployed during the on-ice marine seismic program. Receivers will be placed primarily below ice suspended in the water column; however, a few will be placed on-ice in areas where ice is grounded in the shallow marine environment.

Surface sources will be two types of industry-standard vibrator vehicles. Vibrators will include up to: (1) Five, 68,000-lb (30,800-kg) gross vehicle weight (GVW) Input/Output wheeled vibrators (“heavy vibes”) capable of 49,440 ft-lbs of force; and (2) nine, 20,000-lb (9,072-kg) GVW Envirovibs (modified to accommodate tracks), capable of 15,000 ft-lbs of force. Seismic data production is proposed to be collected by groups of four vibrators in series using either the heavy vibes or Envirovibs. Fewer than four vibrators per group may be used, but as a conservative assumption four are assumed for the maximum estimated exposure to marine mammals. Not all 14 Envirovibs and heavy vibes will be used at the same time. It is assumed that the Envirovibs will conduct approximately 75 percent of the program, with the “heavy vibes” accounting for approximately 25 percent.

The recording unit is comprised of approximately 13 tracked vehicles for crew transport and technical support, two tracked recording trailers, and several ice drilling units.

The SOI on-ice marine seismic program will also require a temporary, mobile camp facility geared to accommodate up to 120 people and will be composed of purpose-built accommodations which are largely self-sufficient for normal operations. Camp facilities are proposed to include as many as 30 to 40 sled trailers including medical facilities, crew quarters, offices, kitchen and dining facilities, laundry facilities, technical work spaces, generators, and fuel storage units. Tracked vehicles will be available for camp site support and access trail maintenance. Prospective mobile camp locations will be chosen based on ice conditions and safety of access to ice. These locations will be moved along with the project as it progresses within the area. The temporary, mobile camp will be stationed on grounded ice alongside the project. Mobilization and demobilization of the camp and equipment will take place from Oliktok Point. Resupply operations will periodically be required for fuel and provisions, and will come from Deadhorse through Oliktok Dock to the mobile field camp.

Description of Marine Mammals Affected by the Activity

Four marine mammal species are known to occur within the proposed survey areas: ringed seal (Phoca hispida), bearded seal (Erignathus barbatus), spotted seal (Phoca largha), and polar bear (Ursus maritimus). None of these species are listed under the Endangered Species Act (ESA) as endangered or threatened species. Other marine mammal species that seasonally inhabit the Beaufort Sea, but are not anticipated to occur in the project area during the proposed on-ice activities, include bowhead whales (Balaena mysticetus) and beluga whales (Delphinapterus leucas). Veritas and SOI will seek a take Authorization from the U.S. Fish and Wildlife Service (USFWS) for the incidental taking of polar bears because USFWS has management authority for this species. A detailed description of these species can be found in Angliss and Outlaw (2007), which is available at the following URL: http://www.nmfs.noaa.gov/pr/pdfs/sars/ak2007.pdf. Additional information on the 3 pinniped species is presented below.

Ringed Seals

Ringed seals are widely distributed throughout the Arctic basin, Hudson Bay and Strait, and the Bering and Baltic seas. Ringed seals inhabiting northern Alaska belong to the subspecies P. h. hispida, and they are year-round residents in the Beaufort Sea.

During winter and spring, ringed seals inhabit landfast ice and offshore pack ice. Seal densities are highest on stable landfast ice but significant numbers of ringed seals also occur in pack ice (Wiig et al., 1999). Seals congregate at holes and along cracks or deformations in the ice (Frost et al., 1999). Breathing holes are established in landfast ice as the ice forms in autumn and are maintained by seals throughout winter. Adult ringed seals maintain an average of 3.4 holes per seal (Hammill and Smith, 1989). Some holes may be abandoned as winter advances, probably in order for seals to conserve energy by maintaining fewer holes (Brueggeman and Grialou, 2001). As snow accumulates, ringed seals excavate lairs in snowdrifts surrounding their breathing holes, which they use for resting and for the birth and nursing of their single pups in late March to May (McLaren, 1958; Smith and Stirling, 1975; Kelly and Quakenbush, 1990). Pups have been observed to enter the water, dive to over 10 m (33 ft), and return to the lair as early as 10 days after birth (Brendan Kelly, pers. comm., June 2002), suggesting pups can survive the cold water temperatures at a very early age. Mating occurs in late April and May. From mid-May through July, ringed seals haul out in the open air at holes and along cracks to bask in the sun and molt.

The seasonal distribution of ringed seals in the Beaufort Sea is affected by a number of factors but a consistent pattern of seal use has been documented since aerial survey monitoring began over 20 years ago. Recent studies indicate that ringed seals show a strong seasonal and habitat component to structure use (Williams et al., 2006), and habitat, temporal, and weather factors all had significant effects on seal densities (Moulton et al., 2005). The studies also showed that effects of oil and gas development on local distribution of seals and seal lairs are no more than slight, and are small relative to the effects of natural environmental factors (Moulton et al., 2005; Williams et al., 2006).

A reliable estimate for the entire Alaska stock of ringed seals is currently not available (Angliss and Outlaw, 2007). A minimum estimate for the eastern Chukchi and Beaufort Sea is 249,000 seals, including 18,000 for the Beaufort Sea (Angliss and Outlaw, 2007). The actual numbers of ringed seals are substantially higher, since the estimate did not include much of the geographic range of the stock, and the estimate for the Alaska Beaufort Sea has not been corrected for animals missed during the surveys used to derive the abundance estimate (Angliss and Outlaw, 2007). Estimates could be as high as or approach the past estimates of 1 - 3.6 million ringed seals in the Alaska stock (Frost, 1985; Frost et al., 1988).

Frost and Lowry (1999) reported an observed density of 0.61 ringed seals/km² on the fast ice from aerial surveys conducted in spring 1997 of an area overlapping the activity area, which is in the range of densities (0.28 - 0.66) reported for the Northstar development from 1997 to 2001 (Moulton et al., 2001). This value (0.61) was adjusted to account for seals hauled out but not sighted by observers (x 1.22, based on Frost et al. (1988)) and seals not hauled out during the surveys (x 2.33, based on Kelly and Quakenbush (1990)) to obtain an density of 1.73 ringed seals/km². This estimate covered an area from the coast to about 2 - 20 miles beyond the activity area; and it assumed that habitat conditions were uniform.

Bearded Seals

The bearded seal has a circumpolar distribution in the Arctic, and it is found in the Bering, Chukchi, and Beaufort seas (Jefferson et al., 1993). Bearded seals are predominately benthic feeders, and prefer waters less than 200 m (656 ft) in depth. Bearded seals are generally associated with pack ice and only rarely use shorefast ice (Jefferson et al., 1993). Bearded seals occasionally have been observed maintaining breathing holes in annual ice and even hauling out from holes used by ringed seals (Mansfield, 1967; Stirling and Smith, 1977).

Seasonal movements of bearded seals are directly related to the advance and retreat of sea ice and to water depth (Kelly, 1988). During winter they are most common in broken pack ice and in some areas also inhabit shorefast ice (Smith and Hammill, 1981). In Alaska waters, bearded seals are distributed over the continental shelf of the Bering, Chukchi, and Beaufort seas, but are more concentrated in the northern part of the Bering Sea from January to April (Burns, 1981). Recent spring surveys along the Alaskan coast indicate that bearded seals tend to prefer areas of between 70 and 90 percent sea ice coverage, and are typically more abundant greater than 20 nm (37 km) off shore, with the exception of high concentrations nearshore to the south of Kivalina in the Chukchi Sea (Bengtson et al., 2000; Simpkins et al., 2003). Since bearded seals are normally found in broken ice that is unstable for on-ice seismic operation, bearded seals will be rarely encountered during seismic operations.

There are no reliable population estimates for bearded seals in the Beaufort Sea or in the proposed project area (Angliss and Outlaw, 2007). Aerial surveys conducted by MMS in fall 2000 and 2001 sighted a total of 46 bearded seals during survey flights conducted between September and October (Treacy, 2002a; 2002b). Bearded seal numbers are considerably higher in the Bering and Chukchi seas, particularly during winter and early spring. Early estimates of bearded seals in the Bering and Chukchi seas range from 250,000 to 300,000 (Popov, 1976; Burns, 1981). Surveys flown from Shismaref to Barrow during May-June 1999 and 2000 resulted in an average density of 0.07 seals/km² and 0.14 seals/km², respectively, with consistently high densities along the coast of the south of Kivalina (Bengtson et al., 2005). These densities cannot be used to develop an abundance estimate because no correction factor is available.

Spotted Seals

Spotted seals occur in the Beaufort, Chukchi, Bering, and Okhotsk seas, and south to the northern Yellow Sea and western Sea of Japan (Shaughnessy and Fay, 1977). Based on satellite tagging studies, spotted seals migrate south from the Chukchi Sea in October and pass through the Bering Strait in November and overwinter in the Bering Sea along the ice edge (Lowry et al., 1998). In summer, the majority of spotted seals are found in the Bering and Chukchi seas, but do range into the Beaufort Sea (Rugh et al., 1997; Lowry et al., 1998) from July until September. The seals are most commonly seen in bays, lagoons, and estuaries and are typically not associated with pack ice at this time of the year.

A small number of spotted seal haul-outs are documented in the central Beaufort Sea near the deltas of the Colville and Sagavanirktok rivers (Johnson et al., 1999). Previous studies from 1996 to 2001 indicate that few spotted seals (a few tens) utilize the central Alaska Beaufort Sea (Moulton and Lawson, 2002; Treacy, 2002a; 2002b). In total, there are probably no more than a few tens of spotted seals along the coast of central Alaska Beaufort Sea.

A reliable abundance estimate for spotted seal is not currently available (Angliss and Outlaw, 2005), however, early estimates of the size of the world population of spotted seals was 335,000 to 450,000 animals and the size of the Bering Sea population, including animals in Russian waters, was estimated to be 200,000 to 250,000 animals (Burns, 1973). The total number of spotted seals in Alaskan waters is not known (Angliss and Outlaw, 2007), but the estimate is most likely between several thousand and several tens of thousands (Rugh et al., 1997). Using maximum counts at known haulouts from 1992 (4,135 seals), and a preliminary correction factor for missed seals developed by the Alaska Department of Fish and Game (Lowry et al., 1998), an abundance estimate of 59,214 was calculated for the Alaska stock (Angliss and Outlaw, 2007).

Potential Effects on Marine Mammals and Their Habitat

Incidental harassment to marine mammals could result from physical activities associated with on-ice seismic operations, which have the potential to disturb and temporarily displace some seals. For ringed seals, pup mortality could occur if any of these animals were nursing and displacement were protracted. However, it is unlikely that a nursing female would abandon her pup given the normal levels of disturbance from the proposed activities, potential predators, and the typical movement patterns of ringed seal pups among different holes. Ringed seals also use as many as four lairs spaced as far as 3,437 m (11,276 ft) apart. In addition, seals have multiple breathing holes. Pups may use more holes than adults, but the holes are generally closer together than those used by adults. This indicates that adult seals and pups can move away from seismic activities, particularly since the seismic equipment does not remain in any specific area for a prolonged time. Given those considerations, combined with the small proportion of the population potentially disturbed by the proposed activity, impacts are expected to be negligible for the ringed, bearded, and spotted seal populations.

The seismic surveys would only introduce acoustic energy into the water column and no objects would be released into the environment. In addition, the total footprint of the proposed seismic survey areas represent only a small fraction of the Beaufort Sea pinniped habitat. Sea-ice surface rehabilitation is often immediate, occurring during the first episode of snow and wind that follows passage of the equipment over the ice.

Number of Marine Mammals Expected to Be Taken

NMFS estimates that up to 984 ringed seals (0.39 percent of estimated total Alaska population of 249,000) could be taken by Level B harassment due to Veritas′ Smith Bay on-ice seismic survey, up to 477 seals (0.19 percent of total population) by Veritas′ Pt. Thomson on-ice seismic surveys, and up to 1,187 seals (0.47 percent of total population) by SOI′s on-ice geographical program. The estimated take numbers are based on consideration of the number of ringed seals that might be disturbed within each of the proposed project areas, calculated from the adjusted ringed seal density of 1.73 seal per km² (Kelly and Quakenbush, 1990).

Due to the unavailability of reliable bearded and spotted seals densities within the proposed project area, NMFS is unable to estimate take numbers for these two species. However, it is expected much fewer bearded and spotted seals would subject to takes by Level B harassment since their occurrence is very low within the proposed project areas, especially during spring (Moulton and Lawson, 2002; Treacy, 2002a; 2002b; Bengtson et al., 2005). Consequently, the levels of take of these two pinniped species by Level B harassment within the proposed project areas would represent only small fractions of the total population sizes of these species in Beaufort Sea.

In addition, NMFS expects that the actual take by Level B harassment from the proposed on-ice seismic programs would be much lower than the estimates due to the implementation of the proposed mitigation and monitoring measures discussed below. Therefore, NMFS believes that any potential impacts to ringed, bearded, and spotted seals to the proposed on-ice geophysical seismic program would be insignificant, and would be limited to distant and transient exposure.

Potential Effects on Subsistence

The affected pinniped species are all taken by subsistence hunters of the Beaufort Sea villages. However, on-ice seismic operations in the activity areas are not expected to have an unmitigable adverse impact on availability of these stocks for taking for subsistence uses because:

(1) Operations would end before the spring ice breakup, after which subsistence hunters harvest most of their seals; and

(2) The areas where on-ice seismic operations would be conducted are small compared to the large Beaufort Sea subsistence hunting area associated with the extremely wide distribution of ringed seals.

In addition, trained dogs will be used to locate ringed seal lairs before the onset of seismic activities. Subsistence advisors will be used as marine mammal observers during performance of the seismic program. During the seal pupping season, planned seismic line segments will be surveyed via the research biologists teamed with lair sniffing dogs; these teams will be accompanied by Inupiat subsistence hunters experienced in the area of the project.

For the two proposed Veritas on-ice seismic projects, most of the anticipated program areas are within 3 - 4 miles (4.8 - 6.4 km) of the coast on the proposed surveys. The proposed on-ice seismic surveys are not thought to hinder subsistence harvest greatly during the timing of the programs. For the proposed Smith Bay project, Nuiqsut and Barrow are the closest communities to the area of the proposed activity; while for the proposed Pt. Thomson project, Kaktovik is the closest community to the area of the proposed activity. Veritas will consult with the potentially affected subsistence communities of Barrow, Nuiqsut, Kaktovik, and other stakeholder groups to develop a Plan of Cooperation. Veritas' joint venture partner on the North Slope is the Kuukpik Corporation.

For the proposed SOI on-ice geophysical program, Plan of Cooperation meetings in the communities of Nuiqsut and Barrow are being held during October 2007. Additional following up meetings are tentatively scheduled for early winter 2008 in the affected communities to ensure that there will be no unmitigable impacts to subsistence use of marine mammal species/stocks resulting from the proposed on-ice geophysical program.

Mitigation and Monitoring

The following mitigation and monitoring measures are proposed for the subject on-ice seismic surveys. All activities will be conducted as far as practicable from any observed ringed seal lair and no energy source will be placed over a seal lair.

Trained seal lair sniffing dogs will be employed by Veritas and SOI for areas of sea ice beyond 3 m (9.8 ft) depth contour to locate seal structures under snow (subnivean) before the seismic program begins. The areas for the proposed projects will be surveys for the subnivean seal structures using trained dogs running together. Transects will be spaced 250 m (820 ft) apart and oriented 90o to the prevailing wind direction. The search tracks of the dogs will be recorded and marked. Subnivean structures will be probed by a steel rod to check if each is open (active), or frozen (abandoned). Structures will be categorized by size, structure and odor to ascertain whether the structure is a birth lair, resting lair, resting lair of rutting male seals, or a breathing hole. Any locations of seal structures will be marked and protected by a with 150 m (490 ft) exclusion distance from any existing routes and on-ice seismic activities. During active seismic vibrator source operations, the 150-m (490-ft) exclusion zone will be monitored for entry by any marine mammals.

In addition, NMFS proposes to require applicants' vehicles to avoid any pressure ridges, ice ridges, and ice deformation areas where seal structures are likely to be present.

Reporting

NMFS proposes to require annual reports that must be submitted to NMFS within 90 days of completing the year's activities.The reports would contain detail descriptions of any marine mammal, by species, number, age class, and sex if possible, that is sighted in the vicinity of the proposed project areas; description of the animal's observed behaviors and the activities occurring at the time.

Endangered Species Act (ESA)

NMFS has determined that no species listed as threatened or endangered under the ESA will be affected by issuing the incidental harassment authorizations under section 101(a)(5)(D) of the MMPA to Veritas and SOI for these three proposed on-ice seismic survey projects.

National Environmental Policy Act (NEPA)

The information provided in the Final Programmatic Environmental Assessment (EA) on the Arctic Ocean outer Continental Shelf Seismic Surveys - 2006 prepared by the MMS in June 2006 led NMFS to conclude that implementation of either the preferred alternative or other alternatives identified in the EA would not have a significant impact on the human environment. Therefore, an Environmental Impact Statement was not prepared. The proposed actions discussed in this document are not substantially different from the 2006 actions, and a reference search has indicated that no significant new scientific information or analyses have been developed in the past several years that would warrant new NEPA documentation.

Preliminary Conclusions

In summary, the anticipated impact of the proposed on-ice seismic programs on the species or stocks of ringed, bearded, and spotted seals is expected to be negligible for the following reasons:

(1) The proposed activities would only occur in a small area which supports a small proportion (approximately 1 percent) of the Alaska stock of ringed seals. The numbers of bearded and spotted seals within the proposed project area is expected to be even lower than that of ringed seals.

(2) The following mitigation and monitoring procedures would be implemented: (a) using trained seal lair sniffing dogs to conduct pre-operational surveys in areas of sea ice beyond 3 m (9.8 ft) and monitoring of ringed seal lairs and breathing holes within the proposed action areas; (b) conducting activities as far away from any observed seal structures as possible; (c) establishing exclusion zones with 150 m (490 ft) from locations of seal structures; (d) vehicles to avoid any pressure ridges, ice ridges, and ice deformation areas where seal structures are likely to be present.

NMFS believes the effects of the three on-ice seismic surveys by Veritas and SOI are expected to be limited to short-term and localized behavioral changes involving relatively small numbers of ringed seals, and may also potentially affect any bearded and spotted seals in the vicinity. Also, the potential effects of the proposed on-ice seismic survey projects during 2008 will not have an unmitigable adverse impact on subsistence uses of these species.

Proposed Authorization

NMFS proposes to issue two IHAs to Veritas and one IHA to SOI for conducting on-ice seismic surveys in the U.S. Beaufort Sea, provided the previously mentioned mitigation, monitoring, and reporting requirements are incorporated. NMFS has preliminarily determined that the proposed activities each would result in the harassment of small numbers of ringed seals, and potentially any bearded and spotted seals in the vicinity; would have no more than a negligible impact on the affected pinniped species and stocks; and would not have an unmitigable adverse impact on the availability of seals for subsistence uses.

Dated: November 26, 2007.
Helen Golde,
Deputy Director, Office of Protected Resources, National Marine Fisheries Service.

[FR Doc. E7-23255 Filed 11-29-07; 8:45 am]

BILLING CODE 3510-22-S